DEPARTMENT OF AGRICULTURE

Animal and Plant Health Inspection Service

[Docket No. APHIS-2008-0129]

Public Meetings; National Tuberculosis Program Listening Sessions; Correction

AGENCY: Animal and Plant Health Inspection Service, USDA.

ACTION: Notice of public meetings; correction.

SUMMARY: We are correcting an error in a notice advising the public that the Animal and Plant Health Inspection Service will host a series of public meetings to provide the public with an opportunity to offer comments regarding current challenges and new approaches for future tuberculosis control methods and eradication in view of budgetary constraints. The notice, which was published in the Federal Register on November 20, 2008 (73 FR 70310), provided an incorrect location for the meeting to be held in Washington, DC.

DATES: The Washington, DC, public meeting will be held on December 16, 2008, from 8 a.m. to 4:30 p.m., local time. Meeting registration will be from 7 a.m. to 8 a.m. prior to the public meeting.

ADDRESSES: The Washington, DC, public meeting will be held at the Renaissance M Street Hotel, 1143 New Hampshire Avenue, NW., Washington, DC 20037.

FOR FURTHER INFORMATION CONTACT: Dr. Alecia L. Naugle, Program Manager, National Tuberculosis Program, VS, APHIS, 4700 River Road Unit 43, Riverdale, MD 20737; (301) 734-6954.

SUPPLEMENTARY INFORMATION: In a notice published in the Federal Register on November 20, 2008 (73 FR 70310), the Animal and Plant Health Inspection Service announced a series of meetings to discuss its National Tuberculosis (TB) Program. The meetings are designed to assemble a wide range of producers and other stakeholders to discuss current challenges and potential new approaches for TB control and eradication in view of budgetary constraints. The meetings will be held in various geographical locations to facilitate attendance. Participants will have the opportunity to pose questions and offer written and oral comments.

In that meeting notice, we provided the incorrect location for the December 16, 2008, public meeting in Washington, DC. The correct location is the Renaissance M Street Hotel, 1143 New Hampshire Avenue, NW., Washington, DC 20037.

Done in Washington, DC, this 1st day of December 2008.
Kevin Shea,
Acting Administrator, Animal and Plant Health Inspection Service.

[FR Doc. E8-28884 Filed 12-4-08; 8:45 am]

BILLING CODE 3410-34-P